ENVIRONMENTAL PROTECTION AGENCY

[ER-FRL-9015-7]

Environmental Impact Statements; Notice of Availability

Responsible Agency: Office of Federal Activities, General Information (202) 564-7146 or http://www.epa.gov/compliance/nepa/.

Weekly receipt of Environmental Impact Statements

Filed 06/23/2014 Through 06/27/2014

Pursuant to 40 CFR 1506.9.

Notice

Section 309(a) of the Clean Air Act requires that EPA make public its comments on EISs issued by other Federal agencies. EPA's comment letters on EISs are available at: http://www.epa.gov/compliance/nepa/eisdata.html.

EIS No. 20140183, Draft EIS, USFS, AZ, Tonto National Forest Travel Management, Comment Period Ends: 08/18/2014, Contact: Marianne Thomas 602-225-5213.

EIS No. 20140184, Final EIS, FAA, CA, Gnoss Field Airport, Proposed Extension of Runway 13/31, Review Period Ends: 08/04/2014, Contact: Doug Pomeroy 650-827-7612.

EIS No. 20140185, Draft EIS, USFS, AZ, Flagstaff Watershed Protection Project, Comment Period Ends: 08/18/2014, Contact: Erin Phelps 928-527-8240.

Dated: June 30, 2014.
Dawn Roberts,
Office of Federal Activities.

[FR Doc. 2014-15704 Filed 7-2-14; 8:45 am]

BILLING CODE 6560-50-P